NATIONAL TRANSPORATION SAFETY BOARD

Office of the Managing Director: Strategic Management Division; Fiscal Year 2010-2015 Strategic Plan

AGENCY: National Transporation Safety Board.

ACTION: Notice: Request for Comments.

SUMMARY: This notice is in accordance with OMB Circular A-11, Section 210.3 (b), Consultation and Outreach, which requires that the NTSB solicits comments on the proposed strategic plan to be published by December 2009. All interested parties are invited to submit comments regarding this proposed strategic plan. As background, NTSB's 2007-2012 strategic plan was published February 9, 2007. The proposed strategic plan updates the original plan, incorporating lessons learned from three years of performance management at the agency. The revised plan includes similar strategic goals as the original plan, plus 17 enhanced strategic objectives and 28 key performance indicators to measure overall success of agency objectives. In addition, the proposed strategic plan includes an updated analysis of environmental factors affecting the agency, and a discussion of data reliability and evaluation methodology. You can view a copy of the draft strategic plan on the NTSB Web site at: http://www.ntsb.gov/Abt_NTSB/Plans/Strategic-Plan_2010-2015.pdf.

DATES: Parties should submit comments on or before December 3, 2009.

ADDRESSES: Submit electronic comments to strategicplan@ntsb.gov. Submit written comments by regular mail to the National Transportation Safety Board, 490 L'Enfant Plaza, SW., Washington, DC 20594. Attn: MD-6 Strategic Management.

FOR FURTHER INFORMATION CONTACT: Agency contact, Eric Fielding, Associate Managing Director, Strategic Management; National Transportation Safety Board, 490 L'Enfant Plaza, SW., Washington, DC 20594, 202-314-6017.

SUPPLEMENTARY INFORMATION:

* * * * *

Candi R. Bing,
Federal Register Liaison Officer.

[FR Doc. E9-27724 Filed 11-18-09; 8:45 am]

BILLING CODE 7533-01-P